DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub. L. 92-463) and under the Secure Rural Schools and Community Self-Determination Act of 2000 (Pub. L. 110343) the Lassen County Resource Advisory Committee will meet December 10, 2009 in Susanville, California for a business meeting. The meeting is open to the public.

SUPPLEMENTARY INFORMATION: The business meeting on December 10, 2009 will begin at 9 a.m., at the Lassen National Forest Headquarters Office, Caribou Conference Room, 2550 Riverside Drive, Susanville, CA 96130. This meeting will be dedicated to review and approve agenda, hear public comments, review October meeting minutes, review concept papers and develop a process to invite back for full proposals. Finish with another public comment period.

FOR FURTHER INFORMATION CONTACT: Contact Terri Frolli, Designated Federal Official, at (530) 257-4188; or Public Affairs Officer, Heidi Perry, at (530) 252-6604.

Lorene T. Guffey,
Acting Forest Supervisor.

[FR Doc. E9-28735 Filed 12-1-09; 8:45 am]

BILLING CODE 3410-11-M